DEPARTMENT OF HOMELAND SECURITY

Federal Emergency Management Agency

44 CFR Part 65

[Docket No. FEMA-B-7776]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Lee | City of Opelika (07-04-4788P) | February 14, 2008; February 21, 2008; Opelika-Auburn News | The Honorable Gary Fuller, Mayor, City of Opelika, P.O. Box 390, Opelika, AL 36803-0390 | January 31, 2008 | 010145
Arizona:
Yavapai | Town of Prescott Valley (07-09-1708P) | February 21, 2008; February 28, 2008; Prescott Daily Courier | The Honorable Harvey Skoog, Mayor, Town of Prescott Valley, 7501 East Civic Circle, Prescott Valley, AZ 86314 | June 27, 2008 | 040121
Yavapai | Yavapai County (07-09-1708P) | February 21, 2008; February 28, 2008; Prescott Daily Courier | The Honorable Chip Davis, Chairman, Yavapai County, Board of Supervisors 1015 Fair Street, Prescott, AZ 86305 | June 27, 2008 | 040093
Arkansas: Pope | City of Russellville (07-06-2298P) | February 7, 2008; February 14, 2008; The Courier | The Honorable Raye Turner, Mayor, City of Russellville, P.O. Box 428, Russellville, AR 72801 | March 3, 2008 | 050178
California:
Fresno | City of Coalinga (07-09-1375P) | February 6, 2008; February 13, 2008; Coalinga Record | The Honorable Trish Hill, Mayor, City of Coalinga, 155 West Durian Avenue, Coalinga, CA 93210 | February 25, 2008 | 060045
Fresno | Fresno County (07-09-1375P) | February 6, 2008; February 13, 2008; Coalinga Record | The Honorable Phil Larson, Fresno County Board of Supervisors, 2281 Tulare Street, 301 Hall of Records, Fresno, CA 93721 | February 25, 2008 | 065029
Orange | City of Irvine, CA (08-09-0082P) | February 14, 2008; February 21, 2008; Irvine World News | The Honorable Beth Krom, Mayor, City of Irvine, P.O. Box 19575, Irvine, CA 92623 | May 22, 2008 | 060222
San Luis Obispo | Unincorporated areas of San Luis Obispo County (07-09-1955P) | March 7, 2008; March 14, 2008; The Tribune | The Honorable James Patterson, Chairman, San Luis Obispo County Board of Supervisors, 1055 Monterey Street, Room D-430, San Luis Obispo, CA 93408 | July 14, 2008 | 060304
Colorado: Adams | City of Thornton (08-08-0056P) | February 21, 2008; February 28, 2008; Northglenn-Thornton Sentinel | The Honorable Erik Hansen, Mayor, City of Thornton, 9500 Civic Center Drive, Thornton, CO 80229 | June 27, 2008 | 080007
Delaware: Sussex | Unincorporated areas of Sussex County (08-03-0159P) | February 13, 2008; February 20, 2008; The Wave | The Honorable George B. Cole, Sussex County Council, P.O. Box 589, Georgetown, DE 19947 | May 21, 2008 | 100029
Florida:
Charlotte | Unincorporated areas of Charlotte County (07-04-6248P) | January 31, 2008; February 7, 2008; Charlotte Sun | The Honorable Adam Cummings, Chairman, Charlotte County, Board of Commissioners 18500 Murdock Circle, Port Charlotte, FL 33948 | January 17, 2008 | 120061
Collier | City of Naples (07-04-6595P) | February 7, 2008; February 14, 2008; Naples Daily News | The Honorable Bill Barnett, Mayor, City of Naples, 735 Eighth Street South, Naples, FL 34102 | January 28, 2008 | 125130
Georgia:
Barrow | Unincorporated areas of Barrow County (07-04-6544P) | February 13, 2008; February 20, 2008; The Barrow County News | The Honorable Douglas H. Garrison, Chairman, Barrow County Board of Commissioners, 233 East Broad Street, Winder, GA 30680 | May 21, 2008 | 130497
Barrow | City of Winder (07-04-6544P) | February 13, 2008; February 20, 2008; The Barrow County News | The Honorable George “Chip” Thompson, III, Mayor, City of Winder, P.O. Box 566, Winder, GA 30680 | May 21, 2008 | 130234
Chatham | Unincorporated areas of Chatham County (07-04-6193P) | January 15, 2008; January 22, 2008; Effingham Herald | The Honorable Pete Liakakis, Chairman, Chatham County Board of Commissioners, 124 Bull Street, Suite 220, Savannah, GA 31401 | April 22, 2008 | 130030
Effingham | Unincorporated areas of Effingham County (07-04-6193P) | January 15, 2008; January 22, 2008; Effingham Herald | The Honorable Verna H. Phillips, Chairman, Effingham County Board of Commissioners, 601 North Laurel Street, Springfield, GA 31329 | April 22, 2008 | 130076
Idaho:
Ada | Unincorporated areas of Ada County (07-10-0624P) | February 28, 2008; March 6, 2008; Idaho Statesman | The Honorable Fred Tilman, Chairman, Ada County Board of Commissioners, 200 West Front Street, Boise, ID 83702 | July 7, 2008 | 160001
Ada | City of Meridian (07-10-0624P) | February 28, 2008; March 6, 2008; Idaho Statesman | The Honorable Tammy De Weerd, Mayor, City of Meridian, 33 East Idaho Avenue, Meridian, ID 83642-2300 | July 7, 2008 | 160180
Illinois:
St. Clair | Unincorporated areas of St. Clair County (07-05-5847P) | February 7, 2008; February 14, 2008; Belleville News-Democrat | The Honorable Mark Kern, Chairman, St. Clair County Board of Commissioners, 10 Public Square, Belleville, IL 62220 | May 15, 2008 | 170616
Will | City of Joliet (08-05-0389P) | January 31, 2008; February 7, 2008; Herald News | The Honorable Arthur Schultz, Mayor, City of Joliet, 150 West Jefferson Street, Joliet, IL 60431 | January 23, 2008 | 170702
Will | City of Lockport (08-05-0065P) | February 14, 2008; February 21, 2008; Herald News | The Honorable Tim Murphy, Mayor, City of Lockport, 222 East Ninth Street, Lockport, IL 60441 | January 30, 2008 | 170703
Kansas:
Douglas | City of Lawrence (07-07-0691P) | February 7, 2008; February 14, 2008; Lawrence Daily Journal-World | The Honorable Sue Hack, Mayor, City of Lawrence, P.O. Box 708, Lawrence, KS 66044 | January 28, 2008 | 200090
Sedgwick | City of Wichita (08-07-0138P) | March 7, 2008; March 14, 2008; The Wichita Eagle | The Honorable Carl Brewer, Mayor, City of Wichita, 455 North Main Street, Wichita, KS 67202 | February 26, 2008 | 200328
Maryland:
Charles | Unincorporated areas of Charles County (07-03-1449P) | March 5, 2008; March 12, 2008; Maryland Independent | The Honorable Wayne Cooper, President, Charles County Commissioners, P.O. Box 2150, La Plata, MD 20646 | July 11, 2008 | 240089
Montgomery | Unincorporated areas of Montgomery County (08-03-0615X) | February 27, 2008; March 5, 2008; The Gazette | Mr. Isiah Leggett, Montgomery County Executive, 101 Monroe Street, Second Floor, Rockville, MD 20850 | June 5, 2008 | 240049
Wicomico | City of Salisbury (07-03-1102P) | January 31, 2008; February 7, 2008; Daily Times | The Honorable Barrie Tilghman, Mayor, City of Salisbury, 1009 Monitor Court, Salisbury, MD 21801 | January 18, 2008 | 240080
Wicomico | Unincorporated areas of Wicomico County (07-03-1102P) | January 31, 2008; February 7, 2008; Daily Times | Mr. Rick Pollitt, Wicomico County Executive, P.O. Box 870, Salisbury, MD 21803 | January 18, 2008 | 240078
Massachusetts:
Norfolk | Town of Wellesley (07-01-1131P) | February 7, 2008; February 14, 2008; Wellesley Townsman | The Honorable Owen H. Dugan, Chairman, Town of Wellesley Board of Selectmen, 525 Washington Street, Wellesley, MA 02181 | May 15, 2008 | 250255
Norfolk | Town of Wellesley (08-01-0508X) | March 6, 2008; March 13, 2008; Wellesley Townsman | The Honorable Owen H. Dugan, Chairman, Board of Selectmen, 525 Washington Street, Wellesley, MA 02181 | July 11, 2008 | 250255
Plymouth | Town of Rockland (08-01-0140P) | March 15, 2008; March 22, 2008; Rockland Standard | The Honorable Mary Parsons, Chair, Board of Selectmen, Town of Rockland, 242 Union Street, Rockland, MA 02370 | June 16, 2008; | 250281
Michigan: Monroe | Village of Dundee (07-05-0218P) | February 14, 2008; February 21, 2008; The Monroe Evening News | The Honorable Ted Norris, Village President, Village of Dundee, Dundee Village Office, 350 West Monroe Street, Dundee, MI 48131 | May 22, 2008 | 260313
Missouri:
Cass | City of Harrisonville (07-07-1674P) | March 28, 2008; April 4, 2008; Democrat Missourian | The Honorable Kevin W. Wood, Mayor, City of Harrisonville, 300 East Pearl Street, Harrisonville, MO 64701 | August 4, 2008 | 290068
Lincoln | Unincorporated areas of Lincoln County (07-07-1516P) | March 26, 2008; April 2, 2008; Troy Free Press | The Honorable Sean O'Brien, Presiding Commissioner, Lincoln County Commission, 201 Main Street, Troy, MO 63379 | July 31, 2008 | 290869
New Jersey:
Mercer | Township of Hamilton (07-02-0844P) | February 7, 2008; February 14, 2008; Trenton Times | The Honorable John F. Bencivengo, Mayor, Township of Hamilton, 2090 Greenwood Avenue, Hamilton, NJ 08650-0150 | May 15, 2008 | 340246
Union | Township of Union (07-02-0942P) | February 21, 2008; February 28, 2008; Union Leader | The Honorable Clifton People, Jr., Mayor, Township of Union, 1976 Morris Avenue, Union, NJ 07083 | May 22, 2008 | 340477
New York: Erie | Town of Lancaster (07-02-0974P) | March 7, 2008; March 14, 2008; Buffalo News | The Honorable Robert H. Giza, Supervisor, Town of Lancaster, 21 Central Avenue, Lancaster, NY 14086 | August 28, 2008 | 360249
Nebraska: Lincoln | City of North Platte (07-07-0322P) | February 28, 2008; March 6, 2008; North Platte Telegraph | The Honorable G. Keith Richardson, Mayor, City of North Platte, 211 West Third Street, North Platte, NE 69101 | July 7, 2008 | 310143
North Carolina:
Brunswick | Unincorporated Areas of Brunswick County (07-04-6003P) | March 6, 2008; March 13, 2008; The Brunswick Beacon | Mr. Marty Lawing, Manager, Brunswick County, P.O. Box 249, Bolivia, North Carolina 28422 | January 30, 2008 | 370295
Martin | Unincorporated Areas of Martin County (08-04-1028P) | March 11, 2008; March 18, 2008; The Enterprise | Mr. W. Russell Overman, Manager, Martin County, P.O. Box 668, Williamston, North Carolina 27892 | February 29, 2008 | 370155
Wake | City of Raleigh (07-04-3146P) | February 4, 2008; February 11, 2008; The News & Observer | The Honorable Charles Meeker, Mayor of the City of Raleigh, P.O. Box 590, Raleigh, North Carolina 27602 | February 29, 2008 | 370243
Wake | City of Raleigh (07-04-4250P) | February 7, 2008; February 14, 2008; The News & Observer | The Honorable Charles Meeker, Mayor, City of Raleigh, P.O. Box 590, 222 West Hargett Street, Raleigh, North Carolina 27602 | May 14, 2008 | 370243
Wake | Unincorporated areas of Wake County (07-04-6027P) | January 31, 2008; February 7, 2008; The Wake Weekly | Mr. David Cooke, Manager, Wake County, 337 South Salisbury Street, Suite 1100, Raleigh, NC 27602 | May 8, 2008 | 370368
Wake | Town of Wake Forest (07-04-4250P) | February 7, 2008; February 14, 2008; The Wake Weekly | The Honorable Vivian Jones, Mayor, Town of Wake Forest, 401 Elm Avenue, Wake Forest, North Carolina 27587 | May 14, 2008 | 370244
Wake | Town of Wake Forest (07-04-6027P) | January 31, 2008; February 7, 2008; The Wake Weekly | The Honorable Vivian A. Jones, Mayor, Town of Wake Forest, 401 Elm Avenue, Wake Forest, NC 27587 | May 8, 2008 | 370244
Ohio: Union | Unincorporated areas of Union County (07-05-6234P) | January 31, 2008; February 7, 2008; Marysville Journal-Tribune | The Honorable Charles Hall, Union County Commissioner, 233 West Sixth Street, Marysville, OH 43040 | January 11, 2008 | 390808
Oklahoma: Tulsa | City of Tulsa (08-06-0093P) | February 7, 2008; February 14, 2008; Tulsa World | The Honorable Kathy Taylor, Mayor, City of Tulsa, 200 Civic Center, 11th Floor, Tulsa, OK 74103 | May 15, 2008 | 405381
Rhode Island: Newport | Town of Tiverton (07-01-1087P) | February 21, 2008; February 28, 2008; Newport Daily News | The Honorable Louise Durfee, President, Town Council, 343 Highland Road, Tiverton, RI 02878 | February 8, 2008 | 440012
South Carolina:
Greenville | Unincorporated areas of Greenville County (07-04-6423P) | January 31, 2008; February 7, 2008; Greenville News | The Honorable Herman G. Kirven, Jr., Chairman, Greenville County Council, 301 University Ridge, Suite 2400, Greenville, SC 29601 | May 8, 2008 | 450089
Jasper | Unincorporated areas of Jasper County (07-04-6192P) | February 13, 2008; February 20, 2008; Jasper County Sun | The Honorable George Hood, Chairman, County Council, Jasper County, P.O. Box 1149, Ridgeland, SC 29936 | May 21, 2008 | 450112
Texas:
Bexar | City of Live Oak (07-06-1905P) | March 7, 2008; March 14, 2008; Daily Commercial Recorder | The Honorable Henry O. Edwards, Jr., Mayor, City of Live Oak, 8001 Shin Oak Drive, Live Oak, TX 78233 | July 14, 2008 | 480043
Bexar | City of San Antonio (08-06-0160P) | February 11, 2008; February 18, 2008; San Antonio Express-News | The Honorable Phil Hardberger, Mayor, City of San Antonio, P.O. Box 839966, San Antonio, TX 78283 | January 31, 2008 | 480045
Brazos | City of College Station (07-06-0545P) | March 6, 2008; March 13, 2008; Bryan College Station Eagle | The Honorable Ben White, Mayor, City of College Station, 1101 Texas Avenue, College Station, TX 77840 | July 11, 2008 | 480083
Brazos | City of College Station (07-06-1353P) | February 14, 2008; February 21, 2008; Bryan College Station Eagle | The Honorable Ben White, Mayor, City of College Station, 1101 Texas Avenue, College Station, TX 77840 | May 22, 2008 | 480083
Brazos | City of College Station (07-06-1928P) | February 14, 2008; February 21, 2008; Bryan College Station Eagle | The Honorable Ben White, Mayor, City of College Station, 1101 Texas Avenue, College Station, TX 77840 | May 22, 2008 | 480083
Collin | City of Allen (07-06-2335P) | February 7, 2008; February 14, 2008; Allen American | The Honorable Steve Terrell, Mayor, City of Allen, 305 Century Parkway, Allen, TX 75013 | March 3, 2008 | 480131
Collin | City of Frisco (07-06-1223P) | February 22, 2008; February 29, 2008; Frisco Enterprise | The Honorable Michael Simpson, Mayor, City of Frisco, 6101 Frisco Square Boulevard, Frisco, TX 75034 | June 30, 2008 | 480134
Dallas | City of Grand Prairie (07-06-1525P) | February 8, 2008; February 15, 2008; Rowlett Lakeshore Times | The Honorable Charles England, Mayor, City of Grand Prairie, P.O. Box 534045, Grand Prairie, TX 75053 | May 16, 2008 | 485472
Denton | Town of Northlake (07-06-2016P) | March 6, 2008; March 13, 2008; Denton Record-Chronicle | The Honorable Peter Dewing, Mayor, Town of Northlake, P.O. Box 729, Northlake, TX 76247 | February 22, 2008 | 480782
Tarrant | City of Grapevine (07-06-1674P) | March 7, 2008; March 14, 2008; Grapevine Courier | The Honorable William D. Tate, Mayor, City of Grapevine, P.O. Box 95104, Grapevine, TX 76099 | July 14, 2008 | 480598
Tarrant | City of North Richland Hills (07-06-1765P) | February 28, 2008; March 6, 2008; Dallas Morning News | The Honorable Oscar Trevino, Jr., P.E., Mayor, City of North Richland Hills, 7301 North East Loop 820, North Richland Hills, TX 76180 | February 14, 2008 | 480607
Virginia: Independent City | City of Winchester (07-03-1236P) | March 27, 2008; April 3, 2008; Winchester Star | The Honorable Elizabeth Minor, Mayor, City of Winchester, 422 National Avenue, Winchester, VA 22601 | March 17, 2008 | 510173

(Catalog of Federal Domestic Assistance No. 97.022, “Flood Insurance.”)

Dated: April 21, 2008;.
David I. Maurstad,
Federal Insurance Administrator of the National Flood Insurance Program, Department of Homeland Security, Federal Emergency Management Agency.

[FR Doc. E8-10337 Filed 5-7-08; 8:45 am]

BILLING CODE 9110-12-P